DEPARTMENT OF THE INTERIOR

National Park Service

Notice of Availability of the Record of Decision for the Environmental Impact Statement on the Schoodic General Management Plan Amendment, Acadia National Park, ME

AGENCY: National Park Service, Interior.

ACTION: Notice of Availability of the Record of Decision for the Environmental Impact Statement on the Schoodic General Management Plan Amendment, Acadia National Park, Maine.

SUMMARY: The National Park Service (NPS) announces the availability of the Record of Decision (ROD) for the Schoodic General Management Plan Amendment, Acadia National Park, Maine. Acadia National Park includes 2,366 acres on the Schoodic Peninsula, which offers exceptional views of the rocky coast and surrounding islands in an uncrowded environment and attracts approximately 250,000 visits a year. The Schoodic District contains two “Rare Natural Communities” (Jack Pine Woodland and Maritime Shrubland), several rare plant species, and significant wildlife habitat, as identified by the Maine Natural Areas Program. Schoodic also protects pristine intertidal areas, exemplary geologic features, and extraordinary scenery. In addition, much of the Schoodic District is eligible for listing in the National Register of Historic Places because of its historically significant cultural landscape.

In 2002, the NPS acquired a former navy base located within the Schoodic District. The former base contains 36 major buildings, totaling approximately 206,000 square feet. Only two buildings on the former navy base, the Rockefeller Building (a 1935 apartment and office building) and its powerhouse, are eligible for listing in the National Register of Historic Places.

This ROD documents the decision by the NPS to implement the preferred alternative (Alternative C—Collaborative Management) of the Schoodic General Management Plan Amendment as the selected action. Under this alternative, the NPS will develop the Schoodic Education and Research Center (SERC) at the former navy base to facilitate research and education that promotes the understanding, protection, and conservation of natural and cultural resources of the National Park System and advance related research and education at the regional, national, and international levels.

The NPS will enter into a long-term cooperative agreement with an independent nonprofit organization to assist in carrying out the mission of SERC. The cooperative agreement will include the assignment of real property to the nonprofit organization for its direct use and possible reassignment to tenant partners. The nonprofit organization will, among other responsibilities, promote appropriate research and education, cultivate and facilitate partnerships, and manage facilities and services at SERC. The nonprofit organization will have sufficient autonomy to be creative and flexible in developing and managing SERC consistent with NPS laws, regulations, policies, and management documents. A full range of revenue-generating and fundraising approaches will be used to support SERC to ensure that its programs and activities are financially viable.

The NPS will collaborate with the nonprofit organization and other partners at SERC to provide research and educational opportunities. The NPS will provide security, law enforcement, emergency medical services, and fire protection for the SERC campus, and maintain its roads, grounds, building envelopes, and utility systems. The NPS and nonprofit organization will share responsibilities for site renovation and construction to convert buildings to research and education use and facilitate the efficient reuse of the site. The NPS will redesign the landscape of the former navy base to create a suitable setting for research and education activities, minimize impervious surfaces, and improve its appearance. Incompatible elements that diminish the safety, appearance, or efficient use of the campus will be mitigated or removed.

The NPS will manage resources and visitor use consistent with the management zone in which they are located. The NPS will implement management actions to ensure that natural, cultural, and scenic resources and values are protected, and the character of the Schoodic District is preserved. The NPS will encourage compatible land use adjacent to the park on the Schoodic Peninsula and surrounding islands through acquisition of conservation easements and participation in the land use planning and regulatory processes of the State of Maine and neighboring jurisdictions. The NPS will also cooperate with the State of Maine, local governments, and others to achieve collective goals, such as land protection, mutual aid for emergency medical services and fire protection, and management of the Schoodic National Scenic Byway.

The ROD briefly discusses the selected action, other alternatives considered, basis for decision, and measures to minimize impacts and address public concerns.

ADDRESSES: The ROD and supporting documents can be found online at http://www.nps.gov/acad/schoodic/home.htm. Copies of the ROD are available on request from: John T. Kelly, Park Planner, Acadia National Park, P.O. Box 177, Bar Harbor, Maine 04609. Telephone: (207) 288-8703.

FOR FURTHER INFORMATION CONTACT: John T. Kelly, Park Planner, Acadia National Park, P.O. Box 177, Bar Harbor, Maine 04609. Telephone: (207) 288-8703.

SUPPLEMENTARY INFORMATION: The NPS completed an environmental impact statement for the Schoodic General Management Plan Amendment in 2005, consistent with the National Environmental Policy Act of 1969, and Council of Environmental Quality regulations (40 CFR part 1500). The NPS published a Notice of Intent to prepare an environmental impact statement in the Federal Register on July 29, 2002 (FR Doc. 02-19096, Vol. 67, No. 145, Page 49034), which formally initiated the environmental impact statement process. The Environmental Protection Agency noticed the availability of the draft environmental impact statement in the Federal Register on September 24, 2004 (FR Doc. 04-21492, Vol. 69, No. 185, Pages 57277-57278), which initiated a 60-day public comment period that ended November 23, 2004. The Environmental Protection Agency noticed the availability of the final environmental impact statement in the Federal Register on February 3, 2006 (FR Doc. E6-1510, Vol. 71, No. 23, Pages 5837—5838), which initiated a 30-day no action period. The final environmental impact statement described and analyzed the environmental impacts of two action alternatives and a no-action alternative. The NPS has selected the preferred alternative for implementation, as presented in the final environmental impact statement.

Acadia National Park began with the establishment of Sieur de Monts National Monument by Presidential Proclamation 1339 in 1916 (40 Stat. 1173), which was followed by the redesignation of the national monument as Lafayette National Park in 1919 (45 Stat. 1083). In 1929, legislation (45 Stat. 1083) changed the named to Acadia National Park and established the NPS's authority to expand the park through donations of property within Hancock County and certain islands in Knox County. This allowed the NPS to accept the donation of more than 2,000 acres on the Schoodic Peninsula as an addition to Acadia National Park.

Several laws have been enacted that are specific to the Schoodic District. In 1935, the first of these laws (49 Stat. 795) provided for the exchange of land between the NPS and U.S. Navy. The act transferred the control and jurisdiction of a 26-acre site within the Schoodic District to the U.S. Navy for “naval radio purposes.” In 1947, legislation (61 Stat. 519) transferred an additional 152 acres to the U.S. Navy with the provision that the land would revert to the park should it become “surplus to the needs of the Department of the Navy.” In 1977, the U.S. Navy exercised this provision and transferred 81 acres back to the park. In 2002, Section 2845 of Public Law 107-107 authorized transfer of the original parcel back to the park without consideration, along with buildings and personal property associated with the land. The law directed the U.S. Navy to transfer this parcel concurrently with the remaining land it had acquired in 1947. The U.S. Navy transferred control and jurisdiction of its remaining land within Acadia National Park (100 acres) to the NPS on July 1, 2002.

Public Law 107-206, enacted in 2002, directed the Secretary of Defense to obligate the funds made available under Public Law 107-117 for the conversion of the former navy base at Schoodic to a research and education center for Acadia National Park. In addition, Public Law 107-248, enacted in 2002, authorized the Secretary of Defense to use the funding for community adjustment activities related to the closure of the navy base and the reuse of the base as a research and education center consistent with the purposes of Acadia National Park.

Public Law 95-625, the National Parks and Recreation Act, requires the preparation and timely revision of a general management plan for each unit of the national park system. Section 604 of that act describes the requirements for general management plans as including: “(1) measures for the preservation of the area's resources; (2) indications of types and general intensities of development * * * associated with public enjoyment and use of the area* * *; (3) identification of and implementation commitments for visitor carrying capacities for all areas of the unit; and (4) indications of potential modifications to the external boundaries of the unit and the reasons therefor.”

The NPS completed a general management plan for Acadia National Park in 1992; however, it does not address the transfer of the former navy base at Schoodic to the NPS. The primary purpose of the Schoodic General Management Plan Amendment is to provide guidance for future use, management, and development of the former navy base. The Schoodic General Management Plan Amendment identifies the mission, goals, and planning issues for the Schoodic District. It also provides a framework for guiding future decisions and outlines long-term, collaborative strategies for protecting park resources, providing high-quality visitor experiences, expanding partnership opportunities, and providing for efficient park operations.

Dated: September 26, 2006.
Chrysandra L. Walter,
Acting Regional Director, Northeast Region.

[FR Doc. E6-18756 Filed 11-6-06; 8:45 am]

BILLING CODE 4310-2N-P